ENVIRONMENTAL PROTECTION AGENCY

40 CFR Part 300

[EPA-HQ-SFUND-1983-0002; FRL-9440-4]

National Oil and Hazardous Substances Pollution Contingency Plan; National Priorities List

AGENCY: Environmental Protection Agency.

ACTION: Withdrawal of direct final rule.

SUMMARY: On May 24, 2011, EPA published a Notice of Intent for Partial Deletion (76 FR 30081) and a direct final rule of Partial Deletion (76 FR 30027) for the remaining portions of Operable Unit 9 (OU9), the Residential Populated Areas, of the California Gulch Superfund Site (Site), located in Lake County, Colorado, from the National Priorities List. The EPA is withdrawing the Final Rule of Partial Deletion due to adverse comments that were received during the public comment period. After consideration of the comments received, if appropriate, EPA will publish a Notice of Partial Deletion in the Federal Register based on the parallel Notice of Intent for Partial Deletion and place a copy of the final partial deletion package, including a Responsiveness Summary, if prepared, in the Site repositories.

DATES: Effective Date: This withdrawal of the direct final action is effective as of July 18, 2011.

ADDRESSES: Information Repositories: Comprehensive information on the Site, as well as the comments that we received during the comment period, are available in docket EPA-HQ-SFUND-1983-0002, accessed through the http://www.regulations.gov Web site. Although listed in the docket index, some information is not publicly available, e.g., CBI or other information whose disclosure is restricted by statue. Certain other material, such as copyrighted material, will be publicly available only in hard copy. Publicly available docket materials are available either electronically in http://www.regulations.gov or in hard copy at:

U.S. EPA Region 8, Superfund Records Center, 1595 Wynkoop Street, Denver, CO 80202. (303) 312-6473 or toll free (800) 227-8917; Viewing hours: 8 a.m. to 4:30 p.m., Monday through Friday, excluding holidays;

and

Lake County Public Library, 1115 Harrison Avenue, Leadville, CO 80461. (719) 486-0569: Viewing hours: Monday and Wednesday 10 a.m. to 8 p.m.; Tuesday and Thursday 10 a.m. to 5 p.m.; Friday and Saturday 1 p.m. to 5 p.m.;

and

Timberline Campus Library of Colorado Mountain College, 901 U.S. Highway 24 South, Leadville, CO 80461. (719) 486-4250; Viewing hours: Monday to Thursday 8 a.m. to 9 p.m.; Friday 8 a.m. to 5 p.m.; Saturday 12 p.m. to 5 p.m.; and Sunday 12 p.m. to 8 p.m.

FOR FURTHER INFORMATION CONTACT: Linda Kiefer, Remedial Project Manager, U.S. Environmental Protection Agency, Region 8, Mailcode EPR-SR, 1595 Wynkoop Street, Denver, CO 80202-1129, (303) 312-6689, e-mail: kiefer.linda@epa.gov.

SUPPLEMENTARY INFORMATION:

List of Subjects in 40 CFR Part 300

Environmental protection, Air pollution control, Chemicals, Hazardous Waste, Hazardous substances, Intergovernmental relations, Penalties, Reporting and recordkeeping requirements, Superfund, Water pollution control, Water Supply.

Authority: 33 U.S.C. 1321(c)(2); 42 U.S.C. 9601-9657; E.O. 12777, 56 FR 54757, 3 CFR, 1991 Comp., p. 351; E.O. 12580, 52 FR 2923; 3 CFR, 1987 Comp., p. 193.

Dated: July 12, 2011.
James B. Martin,
Regional Administrator, Region 8.

PART 300—NATIONAL OIL AND HAZARDOUS SUBSTANCES POLLUTION CONTINGENCY PLAN

Accordingly, the amendment to Table 1of Appendix B to CFR Part 300 to revise the entry “California Gulch”, “Leadville, CO” is withdrawn as of July 18, 2011.

[FR Doc. 2011-18004 Filed 7-15-11; 8:45 am]

BILLING CODE 6560-50-P